CONSUMER PRODUCT SAFETY COMMISSION

[Docket No. CPSC-2013-0004]

Proposed Extension of Approval of Information Collection; Comment Request—Electrically Operated Toys and Children's Articles

AGENCY: Consumer Product Safety Commission.

ACTION: Notice.

SUMMARY: As required by the Paperwork Reduction Act (44 U.S.C. Chapter 35), the Consumer Product Safety Commission (CPSC or Commission) requests comments on a proposed extension of approval of a collection of information from manufacturers and importers of certain electrically operated toys and children's articles. The collection of information consists of testing and recordkeeping requirements in regulations titled, “Requirements for Electrically Operated Toys or Other Electrically Operated Articles Intended for Use by Children,” codified at 16 CFR part 1505.

The Commission will consider all comments received in response to this notice before requesting an extension of this collection of information from the Office of Management and Budget (OMB).

DATES: The Office of the Secretary must receive comments not later than December 3, 2012.

ADDRESSES: You may submit comments, identified by Docket No. CPSC-2013-0004, by any of the following methods:

Electronic Submissions

Submit electronic comments in the following way:

Federal eRulemaking Portal: http://www.regulations.gov. Follow the instructions for submitting comments.

To ensure timely processing of comments, the Commission is no longer accepting comments submitted by electronic mail (email), except through www.regulations.gov.

Written Submissions

Submit written submissions in the following way:

Mail/Hand delivery/Courier (for paper, disk, or CD-ROM submissions), preferably in five copies, to: Office of the Secretary, Consumer Product Safety Commission, Room 502, 4330 East West Highway, Bethesda, MD 20814; telephone (301) 504-7923.

Instructions: All submissions received must include the agency name and docket number for this notice. All comments received may be posted without change, including any personal identifiers, contact information, or other personal information provided, to http://www.regulations.gov. Do not submit confidential business information, trade secret information, or other sensitive or protected information electronically. Such information should be submitted in writing.

Docket: For access to the docket to read background documents or comments received, go to http://www.regulations.gov.

FOR FURTHER INFORMATION CONTACT: For further information contact: Robert H. Squibb, Consumer Product Safety Commission, 4330 East West Highway, Bethesda, MD 20814; (301) 504-7815, or by email to: rsquibb@cpsc.gov.

SUPPLEMENTARY INFORMATION: In 1973, the Commission issued safety requirements for electrically operated toys and children's articles to protect children from unreasonable risks of injury from electric shock, electrical burns, and thermal burns. These regulations are codified at 16 CFR part 1505 and were issued under the authority of sections 2 and 3 of the Federal Hazardous Substances Act (15 U.S.C. 1261, 1262).

A. Requirements for Electrically Operated Toys

These regulations are applicable to toys, games, and other articles intended for use by children that are powered by electrical current from a nominal 120 volt circuit. Video games and articles designed primarily for use by adults that may be used incidentally by children are not subject to these regulations.

The regulations prescribe design, construction, performance, and labeling requirements for electrically operated toys and children's articles. The regulations also require manufacturers and importers of those products to develop and maintain a quality assurance program. 16 CFR 1505.4(a)(2). Additionally, section 1505.4(a)(3) of the regulations require those firms to maintain records for 3 years, containing information about: (1) The material and production specifications and the description of the quality assurance program required by 16 CFR 1505.4(a)(2); (2) the results of all inspections and tests conducted; and (3) records of sales and distribution.

OMB approved the collection of information requirements in the regulations under control number 3041-0035. OMB's most recent extension of approval expires on December 31, 2012. The Commission now proposes to request an extension of approval for the information collection requirements in the regulations.

The safety need for this collection of information remains. Specifically, if a manufacturer or importer distributes products that violate the requirements of the regulations, the records required by section 1505.4(a)(3) can be used by the firm and the Commission to: (i) identify specific lots or production lines of products that fail to comply with applicable requirements; and (ii) notify distributors and retailers in the event the products are subject to recall.

B. Estimated Burden

The Commission staff estimates that about 40 firms are subject to the testing and recordkeeping requirements of the regulations. Each one may have an average of 10 products each year, for which testing and recordkeeping would be required, resulting in approximately 400 records. Commission staff estimates that the tests required by the regulations can be performed on one product in 16 hours and that recordkeeping can be performed for one product in 4 hours. Thus, the estimated testing burden hours are 6,400 (16 hours × 400), and the estimated recordkeeping burden hours are 1,600 hours (400 records × 4 hours).

Commission staff estimates that each firm may spend 30 minutes or less per model on the labeling requirements. Assuming each firm produces 10 new models each year, the estimated labeling burden hours are 200 hours (40 firms × 10 models per firm × 0.5 hours per model = 200 hours) per year. The estimated total burden hours for recordkeeping and labeling are 1,800 hours for all firms (1,600 hours for recordkeeping + 200 hours for labeling).

CPSC staff estimates that the hourly wage for the time required to perform the required testing and recordkeeping is approximately $61.75 (Bureau of Labor Statistics: total compensation for management, professional, and related workers in goods-producing private industries: http://www.bls.gov/ncs, and the hourly wage for the time required to maintain the labeling requirements is approximately $27.64 (Bureau of Labor Statistics, total compensation for all sales and office workers in goods-producing, private industries: http://www.bls.gov/ncs). The annualized total cost to the industry is estimated to be $444,952 (6,400 × $61.75 + 1,800 × $27.64).

Commission staff will expend less than one staff month reviewing records required to be maintained for electrically operated toys and children's articles. The annual cost to the federal government of the collection of information in these regulations is estimated to be less than $14,338. This estimate uses an annual total compensation of $ 119,238 (the equivalent of a GS-14 step 5 employee, with an additional 30.7 percent added for benefits.)

C. Request for Comments

The Commission solicits written comments from all interested persons about the proposed collection of information. The Commission specifically solicits information relevant to the following topics:

—Whether the collection of information described above is necessary for the proper performance of the Commission's functions, including whether the information would have practical utility;

—Whether the estimated burden of the proposed collection of information is accurate;

—Whether the quality, utility, and clarity of the information to be collected could be enhanced; and

—Whether the burden imposed by the collection of information could be minimized by use of automated, electronic, or other technological collection techniques, or other forms of information technology.

Dated: October 1, 2012.
Todd A. Stevenson,
Secretary, Consumer Product Safety Commission.

[FR Doc. 2012-24489 Filed 10-3-12; 8:45 am]

BILLING CODE 6355-01-P